DEPARTMENT OF TRANSPORTATION

Federal Aviation Administration

14 CFR Part 71

[Docket No. FAA 2001-10666; Airspace Docket No. ASD 01-ASW-12]

Revision of Jet Route

AGENCY: Federal Aviation Administration (FAA), DOT.

ACTION: Final rule.

SUMMARY: This action realigns Jet Route 180 (J-180) between the Daisetta, TX, Very High Frequency Omnidirectional Range/Tactical Air Navigation (VORTAC) and the Little Rock, AR, VORTAC by moving the route to the east over the new Sawmill, LA, VORTAC. The FAA is taking this action to enhance aviation safety and the management of the aircraft operations in the Texas area.

EFFECTIVE DATE: 0901 UTC, August 8, 2002.

FOR FURTHER INFORMATION CONTACT: Steve Rohring, Airspace and Rules Division, ATA-400, Office of Air Traffic Airspace Management, Federal Aviation Administration, 800 Independence Avenue, SW., Washington, DC 20591; telephone: (202) 267-8783.

SUPPLEMENTARY INFORMATION:

Background

The FAA is redesigning the nation's airspace to reduce the volume of air traffic operations in certain congested areas commonly referred to as “choke-points.” As part of this effort, the FAA believes that revising the affected segment of J-180 to reroute it over the new Sawmill, LA, VORTAC will alleviate air traffic congestion in specific “choke-point” areas.

Public Input

Interested parties were invited to participate in this rulemaking proceeding by submitting written comments on this proposal to the FAA (66 FR 56250). No comments were received in response to the proposal.

The Rule

This amendment to 14 CFR part 71 realigns J-180 between the Daisetta, TX, VORTAC and the Little Rock, AR, VORTAC by moving the route eastward over the new Sawmill, LA, VORTAC. This action is necessary to support the national airspace redesign project and reduces air traffic congestion in identified “choke-point” areas.

The FAA has determined that this regulation only involves an established body of technical regulations for which frequent and routine amendments are necessary to keep them operationally current. It, therefore—(1) is not a “significant regulatory action” under Executive Order 12866; (2) is not a “significant rule” under Department of Transportation (DOT) Regulatory Policies and Procedures (44 FR 11034, February 26, 1979); and (3) does not warrant preparation of a Regulatory Evaluation as the anticipated impact is so minimal. Since this is a routine matter that will only affect air traffic procedures and air navigation, it is certified that this rule, when promulgated, will not have a significant economic impact on a substantial number of small entities under the criteria of the Regulatory Flexibility Act.

Jet routes are published in paragraph 2004 of FAA Order 7400.9J dated August 31, 2001, and effective September 16, 2001, which is incorporated by reference in 14 CFR 71.1. The jet route listed in this document will be published subsequently in the Order.

Environmental Review

The FAA has determined that this action qualifies for categorical exclusion under the National Environmental Policy Act in accordance with FAA Order 1050.1D, Policies and Procedures for Considering Environmental Impacts. This airspace action is not expected to cause any potentially significant environmental impacts, and no extraordinary circumstances exist that warrant preparation of an environmental assessment.

List of Subjects in 14 CFR Part 71

Airspace, Incorporation by reference, Navigation (air).

Adoption of the Amendment

In consideration of the foregoing, the Federal Aviation Administration amends 14 CFR part 71 as follows:

PART 71—DESIGNATION OF CLASS A, CLASS B, CLASS C, CLASS D, AND CLASS E, AIRSPACE AREAS; AIRWAYS; ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of the Federal Aviation Administration Order 7400.9J, Airspace Designations and Reporting Points, dated August 31, 2001, and effective September 16, 2001, is amended as follows:

Paragraph 2004—Jet Routes

* * * * *

J-180 [Revised]

From Humble, TX; Daisetta, TX; Sawmill, LA; Little Rock, AR.

* * * * *

Issued in Washington, DC, on June 14, 2002.
Reginald C. Matthews,
Manager, Airspace and Rules Division.

[FR Doc. 02-15600 Filed 6-19-02; 8:45 am]

BILLING CODE 4910-13-P